DEPARTMENT OF ENERGY

Federal Energy Regulatory Commission

[Docket No. RM04-7-000]

Market-Based Rates for Public Utilities; Notice of Technical Conference

November 12, 2004.

Take notice that a technical conference will be held concerning issues associated with the rulemaking proceeding on market-based rates. The technical conference will take place on December 7, 2004, from 9:30 a.m. to 4:30 p.m. (EST), in the Commission Meeting Room at the Federal Energy Regulatory Commission, 888 First Street, NE., Washington, DC. Members of the Commission will attend the conference. An agenda providing more details of the conference will be issued at a later time.

The topic of the conference will be issues associated with transmission vertical market power and barriers to entry in electric markets, two of the four prongs the Commission currently uses to determine whether to grant market-based rate authority. The conference will address whether the Commission's pro forma open access transmission tariff adequately mitigates transmission market power, other proposals to identify and mitigate transmission market power, as well as whether and, if so, to what extent there are other barriers to entry that the Commission should consider.

The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live over the Internet, by phone or via satellite. Persons interested in receiving the broadcast, or who need information on making arrangements, should contact David Reininger or Julia Morelli at Capitol Connection (703-993-3100) as soon as possible or visit the Capitol Connection Web site at http://www.capitolconnection.org and click on “FERC.”

A two-day technical conference will also be held in January 2005, dates to be announced, concerning additional issues associated with the rulemaking proceeding. The topic of this latter conference will be issues associated with affiliate abuse/reciprocal dealing and generation market power.

For more information about the conference, please contact Kelly Perl at 202-502-6421 or kelly.perl@ferc.gov.

A supplemental notice of this conference will be issued later that will provide details of the conference, including the panelists.

Linda Mitry,
Deputy Secretary.

[FR Doc. E4-3232 Filed 11-17-04; 8:45 am]

BILLING CODE 6717-01-P